DEPARTMENT OF AGRICULTURE

Forest Service

Willamette Provincial Advisory Committee

AGENCY: Forest Service, USDA.

ACTION: Action of meeting.

SUMMARY: The Willamette Province Committee (PAC) will meet on Thursday, April 18, 2002. The meeting is scheduled to begin at 9:00 a.m., and will conclude at approximately 3 p.m. The meeting will be held at the Best Western New Kings Inn, 3658 Market Street NE, Salem, Oregon (503) 581-1559.

The tentative agenda include: (1) Presentation on watershed disturbance and stream succession, (2) An historical perspective of the Willamette River and restoration opportunities, (3) Restoration opportunities in the Willamette Province, (4) Update on the technical assistance program to watershed councils, (5) Subcommittee Reports, (6) Decision on PAC issue management proposal, (7) Public Forum. The Public Form is tentatively scheduled to begin at 1:00 p.m. Time allotted for individual presentations will be limited to 3-4 minutes. Written comments are encouraged and may be submitted prior to the April 18 meeting by sending them to Designated Federal Official Neal Forrester at the address given below.

FOR FURTHER INFORMATION CONTACT: Designated Federal Official Neal Forrester; Willamette National Forest; 211 East Seventh Avenue; Eugene, Oregon 97401; (541) 465-6924.

Dated: March 27, 2002.
Y. Robert Iwamoto,
Acting Forest Supervisor.

[FR Doc. 02-7875 Filed 4-1-02; 8:45 am]

BILLING CODE 3410-11-M